DEPARTMENT OF AGRICULTURE

Food and Nutrition Service

The Emergency Food Assistance Program; Availability of Foods for Fiscal Year 2024

AGENCY: Food and Nutrition Service, USDA.

ACTION: Notice.

SUMMARY: This notice announces the surplus and purchased foods that the Department expects to make available for donation to States for use in providing nutrition assistance to the needy under The Emergency Food Assistance Program (TEFAP) in Fiscal Year (FY) 2024. The foods made available under this notice must, at the discretion of the State, be distributed to eligible recipient agencies (ERAs) for use in preparing meals and/or for distribution to households for home consumption.

FOR FURTHER INFORMATION CONTACT: Ruth Decosse, Food Distribution Policy Branch, Policy Division, Food and Nutrition Service, U.S. Department of Agriculture, 1320 Braddock Place, Alexandria, Virginia 22314 or telephone (617) 317-5136.

SUPPLEMENTARY INFORMATION: In accordance with the provisions set forth in the Emergency Food Assistance Act of 1983 (EFAA), 7 U.S.C. 7501, et seq., and the Food and Nutrition Act of 2008, 7 U.S.C. 2036, the Department makes foods available to States for use in providing nutrition assistance to those in need through TEFAP. In accordance with section 214 of the EFAA, 7 U.S.C. 7515, funding for TEFAP foods is allocated among States according to a formula that accounts for poverty and unemployment levels within each State. Section 214(a)(1) of the Act requires that 60 percent of each State's allocation be based on the number of people with incomes below the poverty level within the State; and section 214(a)(2) requires that the remaining 40 percent be equal to the percentage of the nation's unemployed persons within the State. State officials are responsible for establishing the network through which the foods will be used by ERAs in providing nutrition assistance to those in need and for allocating foods among those ERAs. States have full discretion in determining the amount of foods that will be made available to ERAs for use in preparing meals and/or for distribution to households for home consumption.

Surplus Foods

Surplus foods donated for distribution under TEFAP are Commodity Credit Corporation (CCC) foods purchased under the authority of section 416 of the Agricultural Act of 1949, 7 U.S.C. 1431 (section 416) and foods purchased under the surplus removal authority of section 32 of the Act of August 24, 1935, 7 U.S.C. 612c (section 32). The types of foods typically purchased under section 416 include dairy, grains, oils, and peanut products. The types of foods purchased under section 32 include meat, poultry, fish, vegetables, dry beans, juices, and fruits.

Approximately $471.4 million in surplus foods acquired in FY 2023 are being delivered to States in FY 2024. Surplus foods currently scheduled for delivery include almonds, apples, applesauce, apricots, beans, blueberries, cherries, dates, fish, grapefruit, lamb, lentils, peaches, pistachios, plums, pork, raisins, shrimp, strawberries, and walnuts. Other surplus foods may be made available to TEFAP throughout the year. The Department would like to point out that food acquisitions are based on changing agricultural market conditions; therefore, the availability of foods is subject to change.

Purchased Foods

In accordance with section 27 of the Food and Nutrition Act of 2008, 7 U.S.C. 2036, the Secretary is directed to purchase an estimated $463.75 million worth of foods in FY 2024 for distribution through TEFAP. In addition, States will receive up to $943 million in supplemental foods and operational expenses provided under the statutory authority of the Commodity Credit Corporation. These foods are made available to States in addition to those surplus foods which otherwise might be provided to States for distribution under TEFAP.

For FY 2024, the Department anticipates purchasing the foods listed in the following table for distribution through TEFAP. The amounts of each item purchased will depend on the prices the Department must pay, as well as the quantity of each item requested by the States. Changes in agricultural market conditions may result in the availability of additional types of foods or the non-availability of one or more foods listed in the table.

FY 2024 USDA Foods Available List for The Emergency Food Assistance Program (TEFAP)
FRUITS:
Apples, Braeburn, Fresh
Apples, Empire, Fresh
Apples, Fuji, Fresh
Apples, Gala, Fresh
Apples, Granny Smith, Fresh
Apples, Red Delicious, Fresh
Apples, Fresh
Apple Juice, 100%, Unsweetened
Apple Slices, Unsweetened, Frozen (IQF)
Applesauce, Unsweetened, Canned (K)
Applesauce, Unsweetened, Cups, Shelf-Stable
Apricots, Halves, Extra Light Syrup, Canned
Blueberries, Highbush, Frozen
Cherry Apple Juice, 100%, Unsweetened
Cranberry Apple Juice, 100%, Unsweetened
Cranberries, Dried, Individual Portion
Grape Juice, Concord, 100%, Unsweetened
Grapefruit Juice, 100%, Unsweetened
Fruit and Nut Mix, Dried
Mixed Fruit, Extra Light Syrup, Canned
Oranges, Fresh
Orange Juice, 100%, Unsweetened
Peaches, Freestone, Slices, Frozen
Peaches, Sliced, Extra Light Syrup, Canned
Pears, Bartlett, Fresh
Pears, Bosc, Fresh
Pears, D'Anjou, Fresh
Pears, Fresh
Pears, Extra Light Syrup, Canned (K)
Plums, Pitted, Dried
Raisins, Unsweetened, Individual Portion
Raisins, Unsweetened
Strawberries, Whole, Unsweetened, Frozen (IQF)
DAIRY:
Cheese, American, Reduced Fat, Loaves, Refrigerated
Cheese, Cheddar, Yellow, Shredded, Refrigerated
Milk, 1%, Shelf-Stable UHT
Milk, 1%, Individual Portion, Shelf-Stable UHT
Milk 1% Fresh
Milk, Skim, Fresh
VEGETABLES:
Beans, Green, Low-sodium, Canned (K)
Beans, Green, No Salt Added, Frozen
Carrots, Diced, No Salt Added, Frozen
Carrots, Sliced, Low-sodium, Canned
Corn, Whole Kernel, No Salt Added, Canned (K)
Corn, Cream Style, Low sodium, Canned
Mixed Vegetables, 7-Way Blend, Low-sodium, Canned
Corn, Whole Kernel, No Salt Added, Frozen
Mixed Produce Box, Fresh
Mixed Vegetables, 7-Way Blend, Low-sodium, Canned
Peas, Green, Low-sodium, Canned
Peas, Green, No Salt Added, Frozen
Potatoes, Dehydrated Flakes
Potatoes, Round, Fresh
Potatoes, Russet, Fresh
Potatoes, Sliced, Low-sodium, Canned
Pumpkin, No Salt Added, Canned
Spaghetti Sauce, Low-sodium, Canned
Spinach, Low-sodium, Canned
Sweet Potatoes, Fresh
Sweet Potatoes, Fresh
Tomato Juice, 100%, Low-sodium
Tomato Sauce, Low-sodium, Canned
Tomato Sauce, Low-sodium, Canned (K) (H)
Tomato Soup, Condensed, Low-sodium, Canned
Tomatoes, Diced, No Salt Added, Canned
Vegetable Soup, Condensed, Low-Sodium, Canned
LEGUMES:
Beans, Black, Low-sodium, Canned
Beans, Black-eyed Pea, Low-sodium, Canned
Beans, Black-eyed Pea, Dry
Beans, Garbanzo, Canned (K)
Beans, Great Northern, Dry
Beans, Kidney, Light Red, Low-sodium, Canned
Beans, Kidney, Light Red, Dry
Beans, Lima, Baby, Dry
Beans, Pinto, Low-sodium, Canned
Beans, Pinto, Dry
Beans, Refried, Low-sodium, Canned
Lentils, Dry
Beans, Vegetarian, Low-sodium, Canned
Peas, Green Split, Dry
PROTEIN FOODS:
Alaska Pollock, Whole Grain Breaded Fish Sticks, Frozen
Alaska Pollock, Fillets, Frozen
Almonds, Natural, Whole, Shelled
Atlantic Haddock, Fillet, Frozen
Atlantic Ocean Perch, Fillet, Frozen
Atlantic, Pollock, Fillet, Frozen
Beef, Canned/Pouch
Beef, Fine Ground, 85% Lean/15% Fat, Frozen
Beef, Fine Ground, 85% Lean/15% Fat, Frozen, LFTB
OPT, Frozen
Beef Stew, Canned/Pouch
Catfish, Fillets, Frozen
Chicken, Boneless Breast, Frozen
Chicken, Canned
Chicken, Drumsticks, Frozen
Chicken, Pouch
Chicken, Split Breast, Frozen
Chicken, Whole, Frozen
Eggs, Fresh
Egg Mix, Dried
Peanut Butter, Smooth
Peanut Butter, Smooth (K)
Peanut Butter, Smooth, Individual Portion
Peanuts, Roasted, Unsalted
Pork, Canned/Pouch
Pork, Ham, Frozen
Pork, Chops, Boneless, Frozen
Salmon, Pink, Canned
Salmon, Pink, Canned (K)
Walnut, Pieces
GRAINS:
Bakery Mix, Low-fat
Cereal, Wheat Farina, Enriched
Crackers, Unsalted
Cornmeal, Yellow
Flour, All Purpose, Enriched, Bleached
Flour, White Whole Wheat (WG)
Grits, Corn, White
Grits, Corn, Yellow
Oats, Rolled, Quick Cooking (WG)
Pasta, Egg Noodles
Pasta, Macaroni, Enriched
Pasta, Macaroni (WG)
Pasta, Macaroni and Cheese
Pasta, Rotini (WG)
Pasta, Spaghetti, Enriched
Pasta, Spaghetti (WG)
Rice, Brown, Long-Grain, Parboiled (WG)
Rice, Medium Grain
Rice, Long Grain
Tortillas, Frozen (WG)
OILS:
Oil, Vegetable
OTHER:
Soup, Cream of Chicken, Condensed, Reduced Sodium
Soup, Cream of Mushroom, Condensed, Reduced Sodium
KEY:
H—Halal Certification Required.
K—Kosher Certification Required.
IQF—Individually Quick Frozen.
UHT—Ultra-High Temperature Pasteurization.
LFTB OTP—Lean Finely Textured Beef Optional.
WG—Whole Grain.

Cynthia Long,
Administrator, Food and Nutrition Service.

[FR Doc. 2023-24667 Filed 11-7-23; 8:45 am]

BILLING CODE 3410-30-P